FEDERAL COMMUNICATIONS COMMISSION

Notice of Public Information Collection(s) Being Reviewed by the Federal Communications Commission for Extension Under Delegated Authority

January 7, 2005.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments by March 21, 2005. If you anticipate that you will be submitting comments, but find it difficult to do so within the period of time allowed by this notice, you should advise the contact listed below as soon as possible.

ADDRESSES: Direct all Paperwork Reduction Act (PRA) comments to Judith B. Herman, Federal Communications Commission, 445 12th Street, SW, Room 1-C804, Washington, DC 20554 or via the Internet to Judith-B.Herman@fcc.gov.

FOR FURTHER INFORMATION CONTACT: For additional information or copies of the information collections contact Judith B. Herman at 202-418-0214 or via the internet at Judith-B.Herman@fcc.gov.

SUPPLEMENTARY INFORMATION: OMB Control No.: 3060-0384.

Title: Auditor's Attestation and Certification—Sections 64.904 and 64.905.

Form No.: N/A.

Type of Review: Extension of a currently approved collection.

Respondents: Business or other for profit.

Number of Respondents: 12.

Estimated Time Per Response: 35-250 hours.

Frequency of Response: On occasion, annual and biennial reporting requirements.

Total Annual Burden: 1,285 hours.

Annual Cost Burden: $1,200,000.

Privacy Act Impact Assessment: N/A.

Needs and Uses: Each incumbent local exchange carrier (ILEC) that is required to file a cost allocation manual is required to either have an attest engagement or have a financial audit performed by an independent auditor biennially. Mid-sized carriers are required to file a certification with the Commission stating that they are in compliance with 47 CFR 64.905. The reporting requirements are imposed to ensure that the carriers are properly complying with Commission rules. They serve as an important aid in the Commission's monitoring program. The Commission is seeking an extension (no change in requirements) in order to obtain the full three year clearance from OMB.

OMB Control No.: 3060-0430.

Title: 47 CFR Section 1.1206, Permit-But-Disclose Proceedings.

Form No.: N/A.

Type of Review: Extension of a currently approved collection.

Respondents: Individuals or households, business or other for-profit entities, not-for-profit institutions, Federal Government, and state, local or tribal government.

Number of Respondents: 10,000.

Estimated Time Per Response: .50 hours.

Frequency of Response: On occasion reporting requirement, third party disclosure requirement, and recordkeeping requirement.

Total Annual Burden: 5,000 hours.

Annual Cost Burden: N/A.

Privacy Act Impact Assessment: N/A.

Needs and Uses: The Commission's rules require that a public record be made of ex parte presentations (i.e., written presentations not served on all parties to the proceeding or oral presentations as to which all parties have not been given notice and an opportunity to be present) to decision-making personnel in “permit-but-disclose” proceedings, such as notice-and-comment rulemakings and declaratory ruling proceedings. Persons making such presentations must file two copies of written presentations and two copies of memoranda reflecting new data or arguments in oral presentations no later than the next business day after the presentation. The information is used by parties to permit-but-disclose proceedings, including interested members of the public, to respond to the arguments made and data offered in the presentations. The responses may then be used by the Commission in its decision-making. The availability of the ex parte materials ensures that the Commission's decisional processes are fair, impartial and comport with the concept of due process in that all interested parties can know of and respond to the arguments made to the decision-making officials.

OMB Control No.: 3060-0470.

Title: 47 CFR Sections 64.901 through 64.903, Allocation of Cost, Cost Allocation Manual and RAO Letters 10 and 26.

Form No.: N/A.

Type of Review: Extension of a currently approved collection.

Respondents: Business or other for-profit entities.

Number of Respondents: 5 respondents; 10 responses.

Estimated Time Per Response: 400 hours.

Frequency of Response: On occasion and annual reporting requirements.

Total Annual Burden: 2,000 hours.

Annual Cost Burden: N/A.

Privacy Act Impact Assessment: N/A.

Needs and Uses: Pursuant to § 64.901, carriers are required to separate their regulated costs from non-regulated costs using the attributable cost method of cost allocation. Section 64.903(a) requires local exchange carriers (LECs) with annual operating revenues equal to or above the indexed revenue threshold as defined in 47 CFR 32.9000 to file a cost allocation manual containing the information specified in § 64.903(a)(1)-(6). Section 64.903(b) requires that carriers update their cost allocation manuals at least annually, except that changes to the cost apportionment table and the description of time reporting procedures must be filed at the time of implementation. Moreover, filing of cost allocation manuals and occasional updates are subject to the uniform format and standard procedures specified in RAO Letter 19. RAO Letter 26 provides guidance to carriers in revising their Cost Allocation Manuals (CAMs) to reflect change to the affiliate transactions rules pursuant to the Accounting Safeguards Order. The FCC uses the manual to ensure that all costs are properly classified.

OMB Control No.: 3060-0814.

Title: Section 54.301, Local Switching Support and Local Switching Data Collection Form and Instructions.

Form No.: N/A.

Type of Review: Extension of a currently approved collection.

Respondents: Business or other for-profit entities.

Number of Respondents: 195.

Estimated Time Per Response: .50-24 hours.

Frequency of Response: On occasion and annual reporting requirements and third party disclosure requirement.

Total Annual Burden: 3,787 hours.

Annual Cost Burden: N/A.

Privacy Act Impact Assessment: N/A.

Needs and Uses: Pursuant to § 54.301, each incumbent local exchange carrier (ILEC) that is not a member of the NECA common line tariff, that has been designated as eligible telecommunications carriers, and that serves a study area with 50,000 or fewer access lines shall, for each study area, provide the Administrator with the projected total unseparated dollar amount assigned to each account in § 54.301(b). Average schedule companies are required to file information pursuant to § 54.301(f). Both respondents must provide true-up data. The data is necessary to calculate certain revenue requirements.

OMB Control No.: 3060-0891.

Title: Certification of Completion of Construction for an Instructional Television Fixed Service Station.

Form No.: FCC Form 330A.

Type of Review: Extension of a currently approved collection.

Respondents: Not-for-profit institutions and state, local or tribal government.

Number of Respondents: 65.

Estimated Time Per Response: .50 hours.

Frequency of Response: On occasion reporting requirement.

Total Annual Burden: 33 hours.

Annual Cost Burden: N/A.

Privacy Act Impact Assessment: N/A.

Needs and Uses: FCC Form 330A is used to certify that Instructional Television Fixed Service (ITFS) and Multipoint Distribution Service (MDS) facilities as authorized in FCC Forms 330 and 331 have been completed and that the station is now operational and ready to provide service to the public. The license shall be subject to forfeit upon the expiration of the construction period specified in the license unless the licensee files with the Commission an FCC Form 330A within five days after that date. There is no change in respondents or burden hours.

Federal Communications Commission.
Marlene H. Dortch,
Secretary.

[FR Doc. 05-919 Filed 1-14-05; 8:45 am]

BILLING CODE 6712-01-P